DEPARTMENT OF HEALTH AND HUMAN SERVICES

Centers for Disease Control and Prevention

Advisory Committee to the Director (ACD), Centers for Disease Control and Prevention—Ethics Subcommittee (ES)

In accordance with section 10(a)(2) of the Federal Advisory Committee Act (Pub. L. 92-463), the Centers for Disease Control and Prevention (CDC) announces the following meeting of the aforementioned subcommittee:

Time and Date: 1 p.m.-3:30 p.m., June 17, 2010.

Place: Teleconference. To participate, please dial (866) 919-3560 and enter passcode 4168828 for access.

Status: Open to the public, limited only by availability of telephone ports. The public is welcome to participate during the public comment periods. A public comment period is tentatively scheduled for 3 p.m.-3:15 p.m.

Purpose: The ES will provide counsel to the ACD, CDC, regarding a broad range of public health ethics questions and issues arising from programs, scientists and practitioners.

Matter to be Discussed: Agenda items will include the following topics: Development of a strategy to support state and local health departments in their efforts to address public health ethics issues and coordination of these efforts with the CDC Office of State, Tribal, Local, and Territorial Support; steps for addressing ACD input on the ventilator guidance document; development of public health ethics cases; future priorities for the ES; and updates on CDC's public health ethics activities.

The agenda is subject to change as priorities dictate.

Contact Person for More Information: Drue Barrett, PhD, Designated Federal Officer, ACD, CDC-ES, 1600 Clifton Road, N.E., M/S D-50, Atlanta, GA 30333. Telephone: (404) 639-4690. E-mail: dbarrett@cdc.gov.

The Director, Management Analysis and Services Office, has been delegated the authority to sign Federal Register notices pertaining to announcements of meetings and other committee management activities, for both CDC and the Agency for Toxic Substances and Disease Registry.

Dated: May 21, 2010.
Elaine L. Baker,
Director, Management Analysis and Service Office, Centers for Disease Control and Prevention.

[FR Doc. 2010-13014 Filed 5-28-10; 8:45 am]

BILLING CODE 4163-18-P